DEPARTMENT OF TRANSPORTATION

Federal Aviation Administration

14 CFR Part 71

[Docket No. FAA-2023-2326; Airspace Docket No. 23-AGL-21]

RIN 2120-AA66

Amendment of VOR Federal Airways V-13, V-133, and V-300, and United States RNAV Route T-331; Establishment of Canadian RNAV Routes Q-924, T-765, T-776, and T-810; and Revocation of Jet Route J-533 and VOR Federal Airway V-348; Northcentral United States

AGENCY: Federal Aviation Administration (FAA), DOT.

ACTION: Notice of proposed rulemaking (NPRM).

SUMMARY: This action proposes to amend Very High Frequency Omnidirectional Range (VOR) Federal airways V-13, V-133, and V-300, and United States (U.S.) Area Navigation (RNAV) route T-331; establish Canadian RNAV routes Q-924, T-765, T-776, and T-810 in U.S. airspace; and revoke Jet Route J-533 and VOR Federal airway V-348. The FAA is proposing this action due to the planned decommissioning of the Thunder Bay, Ontario (ON), Canada, VOR navigational aid (NAVAID). This action is in support of NAV CANADA's NAVAID Modernization Program within Canada.

DATES: Comments must be received on or before January 22, 2024.

ADDRESSES: Send comments identified by FAA Docket No. FAA-2023-2326 and Airspace Docket No. 23-AGL-21 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

Jet Routes are published in paragraph 2004, Canadian Area Navigation Routes (Q-routes) are published in paragraph 2007, VOR Federal airways are published in paragraph 6010(a), United States Area Navigation Routes (T-routes) are published in paragraph 6011, and Canadian Area Navigation Routes (T-routes) are published in paragraph 6013 of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

NAV CANADA, which operates Canada's civil air navigation service, is implementing changes to Canada's instrument flight rules (IFR) navigation infrastructure as part of their NAVAID Modernization Program. This modernization program is designed to enhance the efficiency of Canada's flying operations by taking advantage of performance-based navigation and RNAV avionics capabilities. The changes being implemented by NAV CANADA affect Jet Route J-533 and portions of VOR Federal airways V-13, V-133, V-300, and V-348 that extend across the U.S./Canada border through U.S. airspace over Lake Superior, MI.

NAV CANADA is planning to decommission the Thunder Bay, ON, Canada, VOR in July 2024 as part of their NAVAID Modernization Program. As a result, amendments to V-13, V-133, and V-300, and revocation of J-533 and V-348 in U.S. airspace are required due to the loss of navigational guidance provided by the Thunder Bay VOR and to match airway changes planned by NAV CANADA within Canadian airspace. Additionally, NAV CANADA plans to establish new Canadian RNAV routes, Q-924 in the high altitude enroute structure and T-765, T-776, and T-810 in the low altitude enroute structure, as route segment replacements for the affected Air Traffic Service (ATS) routes within Canadian and U.S. airspace.

To mitigate the loss of the J-533, V-13, V-133, V-300, and V-348 route segments over Lake Superior and support NAV CANADA's planned RNAV route replacements for these affected routes, the FAA must establish portions of Canadian RNAV routes Q-924, T-765, T-776, and T-810 within U.S. airspace. The new Canadian RNAV route segments in U.S. airspace would provide airway continuity with NAV CANADA's RNAV routes being established within Canadian airspace and provide cross-border airway connectivity between the U.S. and Canada. Existing NAVAIDs that provide conventional enroute structure in the affected area are limited and alternate, parallel, or adjacent Jet Routes or VOR Federal airways to use as mitigations are not available. To compensate for the loss of the conventional enroute structure, IFR pilots with RNAV-equipped aircraft could navigate using the Canadian RNAV routes proposed in this action or fly point-to-point using the Fixes and waypoints (WP) that would remain in place. Additionally, IFR pilots could request air traffic control (ATC) radar vectors to fly through or around the affected area. Visual flight rules pilots who elect to navigate airways could also take advantage of the ATC services listed previously.

Finally, proposed modifications to U.S. RNAV route T-331 would mitigate proposed modifications to V-13 due to the planned Thunder Bay VOR decommissioning. The route would be extended northward within U.S. airspace to the U.S./Canada border to address the proposed removal of the affected V-13 airway segment. The extended T-331 would provide pilots with RNAV-equipped aircraft a route alternative through the affected area to the U.S./Canada border and then cross-border connectivity with NAV CANADA's further extension of T-331 within Canadian airspace to the Thunder Bay, ON, area.

The Proposal

The FAA is proposing to amend 14 CFR part 71 to amend VOR Federal airways V-13, V-133, and V-300, and U.S. RNAV route T-331; establish Canadian RNAV routes Q-924, T-765, T-776, and T-810 in U.S. airspace; and revoke Jet Route J-533 and VOR Federal airway V-348. This action is required due to the planned decommissioning of the Thunder Bay, ON, Canada, VOR by NAV CANADA in support of their NAVAID Modernization Program. The proposed ATS route actions are described below.

J-533: J-533 currently extends between the Duluth, MN, VOR/Tactical Air Navigation (VORTAC) and the U.S./Canadian border via the Duluth to Thunder Bay, ON, direct radial. The FAA proposes to remove the route in its entirety.

Q-924: Q-924 is a new Canadian RNAV route proposed to be established within U.S. airspace extending between the Duluth, MN, VORTAC and the BEKRR, MI, WP that would replace the “MPCEG” Computer Navigation Fix (CNF) on the U.S./Canada border. The new RNAV route would mitigate the proposed J-533 revocation and provide route continuity and cross-border connectivity with the Q-924 route segment being established by NAV CANADA within Canadian airspace between the BEKRR WP and the Thunder Bay, ON, area.

V-13: V-13 currently extends between the Mc Allen, TX, VOR/DME and the Razorback, AR, VORTAC; between the Butler, MO, VORTAC and the Farmington, MN, VORTAC; and between the Duluth, MN, VORTAC and the Thunder Bay, ON, Canada, VOR/DME. The airspace outside the United States is excluded. The FAA proposes to remove the airway segment between the Duluth VORTAC and the Thunder Bay VOR/DME. As amended, the airway would be changed to extend between the Mc Allen VOR/DME and the Razorback VORTAC, and between the Butler VORTAC and the Farmington VORTAC.

V-133: V-133 currently extends between the intersection of the Charlotte, NC, VOR/DME 305° and Barretts Mountain, NC, VOR/DME 197° radials (LINCO Fix) and the Zanesville, OH, VOR/DME; and between the Saginaw, MI, VOR/DME and the Red Lake, ON, Canada VOR. The airspace within Canada is excluded. The FAA proposes to remove the airway segment between the Houghton, MI, VOR/DME and the International Falls, MN, VOR/DME. As amended, the airway would be changed to extend between the Charlotte VOR/DME 305° and Barretts Mountain VOR/DME 197° radials (LINCO Fix) and the Zanesville VOR/DME, between the Saginaw VOR/DME and the Houghton VOR/DME, and between the International Falls VOR/DME and the Red Lake, ON, VOR. The airspace within Canada would continue to be excluded.

V-300: V-300 currently extends between the Victoria, British Columbia (BC), Canada, VOR/DME and the Vancouver, BC, Canada, VOR/DME; between the Thunder Bay, ON, Canada, VOR/DME and the Wiarton, ON, Canada, VOR/DME; and between the Sherbrooke, Quebec (PQ), Canada, VOR and the Fredericton, New Brunswick (NB), Canada, VORTAC. The airspace within Canada is excluded. The FAA proposes to remove the airway segment between the Thunder Bay VOR/DME and the Sault Ste Marie, MI, VOR/DME. Additionally, the FAA proposes to remove the airway segment between the Victoria VOR/DME and the Vancouver VOR/DME to match the airway segment removal action NAV CANADA is taking to be effective November 30, 2023. Finally, the FAA proposes to remove the airway segment between the Sherbrooke VOR and the Fredericton VORTAC due to NAV CANADA's actions removing the segments west and east of the portion of the airway segment within U.S. airspace and the previously existing cross-border connectivity no longer being provided. As amended, the airway would be changed to extend between the Victoria VOR/DME and the Vancouver VOR/DME, and between the Sault Ste Marie VOR/DME and the Wiarton, ON, VOR/DME. The airspace within Canada would continue to be excluded.

V-348: V-348 currently extends between the Thunder Bay, ON, Canada VOR/DME and the Sudbury, ON, Canada VOR. The airspace within Canada is excluded. The FAA proposes to remove the airway segment between the Thunder Bay VOR/DME and the Sault Ste Marie, MI, VOR/DME due to the planned decommissioning of the Thunder Bay VOR/DME. Additionally, the FAA proposes to remove the airway segment between the Sault Ste Marie VOR/DME and the Sudbury VOR due to the Sudbury VOR having been decommissioned by NAV CANADA in 2021. As amended, the airway would be removed in its entirety.

T-331: T-331 currently extends between the FRAME, CA, Fix and the MECNU, MN, Fix. The FAA proposes to extend the route to the BEKRR, MN, WP replacing the “CFGDB” CNF on the U.S./Canada border and remove the MECNU Fix route point from the Part 71 route description. The MECNU Fix will remain charted and appear to be on the route, but it will not be listed as a route point in the Part 71 description. As amended, the route would be changed to extend between the FRAME Fix and the BEKRR WP and provide mitigation for the proposed V-13 airway segment removal.

T-765: T-765 is a new Canadian RNAV route proposed to be established within U.S. airspace extending between the Houghton, MI, VOR/DME and the BBLUE, MI, WP replacing the “KJDRS” CNF on the U.S./Canada border; and between the ASIXX, MN, WP replacing the “KJDPL” CNF on the U.S./Canada border and the International Falls, MN, VOR/DME. The new RNAV route would mitigate the proposed V-133 airway segment removal and provide route continuity and cross-border connectivity with the T-765 route segment being established by NAV CANADA within Canadian airspace between the BBLUE WP and the ASIXX WP.

T-776: T-776 is a new Canadian RNAV route proposed to be established within U.S. airspace between the KAYCY, MI, WP replacing the “CFZSV” CNF on the U.S./Canada border and the KMNGO, MI, WP replacing the “CFXKN” CNF on the U.S./Canada border; between the NCOLY, MI, WP replacing the “CWSKQ” CNF on the U.S./Canada border and the RRBEE, MI, WP replacing the “KJSCR” CNF on the U.S./Canada border; and between the SKOWT, MI, WP replacing the “KJSTL” CNF on the U.S./Canada border and the Sault Ste Marie, MI, VOR/DME. The new RNAV route would mitigate the proposed V-348 revocation and provide route continuity and cross-border connectivity with the T-776 route segments being established by NAV CANADA within Canadian airspace between the Thunder Bay, ON, area and the SKOWT WP.

T-810: T-810 is a new Canadian RNAV route proposed to be established within U.S. airspace extending between the BERDD, MI, WP replacing the “KJNGG” CNF on the U.S./Canada border and the JEORG, MI, WP replacing the “CFKJR” CNF on the U.S./Canada border; and between the CATGA, MI, WP replacing the CATGA, MI, Fix on the U.S./Canada border and the Sault Ste Marie, MI, VOR/DME. The new RNAV route would mitigate the proposed V-300 airway segment removal and provide route continuity and cross-border connectivity with the T-810 route segments being established by NAV CANADA within Canadian airspace between the Thunder Bay, ON, area and the CATGA WP.

The NAVAID radials listed in the VOR Federal airway descriptions in the proposed regulatory text of this NPRM are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2004 Jet Routes.

* * * * *

J-533 [Removed]

* * * * *

Paragraph 2007 Canadian Area Navigation Routes.

* * * * *

Q-924 Duluth, MN (DLH) to BEKRR, MN [New]
Duluth, MN (DLH) | VORTAC | (Lat. 46°48′07.79″ N, long. 092°12′10.33″ W)
BEKRR, MN | WP | (Lat. 48°00′25.78″ N, long. 089°55′39.40″ W)

* * * * *

Paragraph 6010(a) VOR Federal Airways.

* * * * *

V-13 [Amended]

From Mc Allen, TX; INT Mc Allen 060° radial and Corpus Christi, TX, 178° radials; Corpus Christi; INT Corpus Christi 039° and Palacios, TX, 241° radials; Palacios; Humble, TX; Lufkin, TX; Belcher, LA; Texarkana, AR; Rich Mountain, OK; Fort Smith, AR; INT Fort Smith 006° and Razorback, AR, 190° radials; to Razorback. From Butler, MO; Napoleon, MO; Lamoni, IA; Des Moines, IA; Mason City, IA; to Farmington, MN.

* * * * *

V-133 [Amended]

From INT Charlotte, NC, 305° and Barretts Mountain, NC, 197° radials; Barretts Mountain; Charleston, WV; to Zanesville, OH. From Saginaw, MI; Traverse City, MI; Escanaba, MI; Sawyer, MI; to Houghton, MI. From International Falls, MN; to Red Lake, ON, Canada. The airspace within Canada is excluded.

* * * * *

V-300 [Amended]

From Sault Ste Marie, MI; to Wiarton, ON, Canada. The airspace within Canada is excluded.

* * * * *

V-348 [Removed]

* * * * *

Paragraph 6011 United States Area Navigation Routes.

* * * * *

T-331 FRAME, CA to BEKRR, MN [Amended]
FRAME, CA | FIX | (Lat. 36°36′46.74″ N, long. 119°40′25.53″ W)
NTELL, CA | WP | (Lat. 36°53′58.99″ N, long. 119°53′22.21″ W)
KARNN, CA | FIX | (Lat. 37°09′03.79″ N, long. 121°16′45.22″ W)
VINCO, CA | FIX | (Lat. 37°22′35.11″ N, long. 121°42′59.52″ W)
NORCL, CA | WP | (Lat. 37°31′02.66″ N, long. 121°43′10.60″ W)
MOVDD, CA | WP | (Lat. 37°39′40.88″ N, long. 121°26′53.53″ W)
EVETT, CA | WP | (Lat. 38°00′36.11″ N, long. 121°07′48.14″ W)
TIPRE, CA | WP | (Lat. 38°12′21.00″ N, long. 121°02′09.00″ W)
Squaw Valley, CA (SWR) | VOR/DME | (Lat. 39°10′49.16″ N, long. 120°16′10.60″ W)
TRUCK, CA | FIX | (Lat. 39°26′15.67″ N, long. 120°09′42.48″ W)
Mustang, NV (FMG) | VORTAC | (Lat. 39°31′52.60″ N, long. 119°39′21.87″ W)
Lovelock, NV (LLC) | VORTAC | (Lat. 40°07′30.95″ N, long. 118°34′39.34″ W)
Battle Mountain, NV (BAM) | VORTAC | (Lat. 40°34′08.69″ N, long. 116°55′20.12″ W)
TULIE, ID | WP | (Lat. 42°37′58.49″ N, long. 113°06′44.54″ W)
AMFAL, ID | WP | (Lat. 42°45′56.67″ N, long. 112°50′04.64″ W)
Pocatello, ID (PIH) | VOR/DME | (Lat. 42°52′13.38″ N, long. 112°39′08.05″ W)
VIPUC, ID | FIX | (Lat. 43°21′09.64″ N, long. 112°14′44.08″ W)
Idaho Falls, ID (IDA) | VOR/DME | (Lat. 43°31′08.42″ N, long. 112°03′50.10″ W)
SABAT, ID | FIX | (Lat. 44°00′59.71″ N, long. 111°39′55.04″ W)
Billings, MT (BIL) | VORTAC | (Lat. 45°48′30.81″ N, long. 108°37′28.73″ W)
EXADE, MT | FIX | (Lat. 47°35′56.78″ N, long. 104°32′40.61″ W)
JEKOK, ND | WP | (Lat. 47°59′31.05″ N, long. 103°27′17.51″ W)
FONIA, ND | FIX | (Lat. 48°15′35.07″ N, long. 103°10′37.54″ W)
Minot, ND (MOT) | VOR/DME | (Lat. 48°15′37.21″ N, long. 101°17′13.46″ W)
GICHI, ND | WP | (Lat. 48°06′54.20″ N, long. 098°54′45.14″ W)
Grand Forks, ND (GFK) | VOR/DME | (Lat. 47°57′17.40″ N, long. 097°11′07.33″ W)
Thief River Falls, MN (TVF) | VOR/DME | (Lat. 48°04′09.53″ N, long. 096°11′11.31″ W)
BLUOX, MN | FIX | (Lat. 47°34′33.13″ N, long. 095°01′29.11″ W)
Duluth, MN (DLH) | VORTAC | (Lat. 46°48′07.79″ N, long. 092°12′10.33″ W)
BEKRR, MN | WP | (Lat. 48°00′25.78″ N, long. 089°55′39.40″ W)

* * * * *

Paragraph 6013 Canadian Area Navigation Routes.

* * * * *

T-765 Houghton, MI (CMX) to International Falls, MN (INL) [New]
Houghton, MI (CMX) | VOR/DME | (Lat. 47°10′12.94″ N, long. 088°29′07.41″ W)
BBLUE, MI and | WP | (Lat. 48°01′10.44″ N, long. 089°13′39.22″ W)
ASIXX, MN | WP | (Lat. 48°30′56.17″ N, long. 092°37′34.98″ W)
International Falls, MN (INL) | VOR/DME | (Lat. 48°33′56.87″ N, long. 093°24′20.44″ W)
* * * * * * *
T-776 KAYCY, MI to Sault Ste Marie, MI [New]
KAYCY, MI | WP | (Lat. 48°10′13.28″ N, long. 088°51′36.53″ W)
KMNGO, MI and | WP | (Lat. 47°57′14.09″ N, long. 087°27′15.24″ W)
NCOLY, MI | WP | (Lat. 47°01′58.21″ N, long. 085°11′47.29″ W)
RRBEE, MI and | WP | (Lat. 46°45′54.88″ N, long. 084°48′45.86″ W)
SKOWT, MI | WP | (Lat. 46°29′46.17″ N, long. 084°25′57.74″ W)
Sault Ste Marie, MI (SSM) | VOR/DME | (Lat. 46°24′43.60″ N, long. 084°18′53.54″ W)
* * * * * * *
T-810 BERDD, MI to Sault Ste Marie (SSM) [New]
BERDD, MI | WP | (Lat. 48°06′41.75″ N, long. 089°00′14.29″ W)
AVALE, MI | FIX | (Lat. 46°44′02.48″ N, long. 085°07′59.96″ W)
SRADE, MI | FIX | (Lat. 46°39′29.38″ N, long. 084°56′42.98″ W)
JEORG, MI and | WP | (Lat. 46°32′50.81″ N, long. 084°39′34.39″ W)
CATGA, MI | WP | (Lat. 46°28′11.51″ N, long. 084°27′41.15″ W)
Sault Ste Marie, MI (SSM) | VOR/DME | (Lat. 46°24′43.60″ N, long. 084°18′53.54″ W)

Issued in Washington, DC, on December 1, 2023.
Karen L. Chiodini,
Acting Manager, Rules and Regulations Group.

[FR Doc. 2023-26801 Filed 12-7-23; 8:45 am]

BILLING CODE 4910-13-P